DEPARTMENT OF COMMERCE

National Oceanic and Atmospheric Administration

[I.D. 072202A]

Receipt of an Application for an Incidental Take Permit (1398)

AGENCY: National Marine Fisheries Service (NMFS), National Oceanic and Atmospheric Administration, Commerce

ACTION: Issuance of Permit 1398.

SUMMARY: Notice is hereby given of that NMFS issued on August 30, 2002, an incidental take permit (Permit 1398) to the North Carolina Division of Marine Fisheries (NCDMF) pursuant to the Endangered Species Act of 1973 (ESA), as amended. As required by the ESA, NCDMF's Permit 1398 includes a conservation plan designed to minimize and mitigate any such take of endangered or threatened species. Permit 1398 is for the incidental take of ESA-listed adult and juvenile sea turtles associated with otherwise lawful commercial fall gill net fisheries for flounder operating in Pamlico Sound, NC. The duration of Permit 1398 is for 3 years.

ADDRESSES: The application and related documents are available for review in the following office by appointment:

Endangered Species Division, Office of Protected Resources, NMFS, 1315 East-West Highway, Silver Spring, MD 20910 or Protected Resources Division, S/SER, 9721 Executive Center Dr. N., St. Petersburg, FL 33702 (ph: 727-570-5312, fax: 727-570-5517).

FOR FURTHER INFORMATION CONTACT: Dennis Klemm (ph. 727-570-5312, fax 727-570-5517, e-mail Dennis.Klemm@noaa.gov) or Therese Conant (ph. 301-713-1401, fax 301-713-0376, e-mail Therese.Conant@noaa.gov). Comments received will also be available for public inspection, by appointment, during normal business hours by calling 301-713-1401.

SUPPLEMENTARY INFORMATION: Issuance of permits and permit modifications, as required by the ESA (16 U.S.C. 1531-1543), is based on a finding that such permits/modifications: (1) are applied for in good faith; (2) would not operate to the disadvantage of the listed species which are the subject of the permits; and (3) are consistent with the purposes and policies set forth in section 2 of the ESA. Incidental take permits are issued under Section 10(a)(1)(B) of the ESA. Authority to take listed species is subject to conditions set forth in the permits. NMFS regulations governing permits for threatened and endangered species are promulgated at 50 CFR 222.307.

Permit 1398

The following species are included in Permit 1398 conservation plan: Loggerhead (Caretta caretta), green (Chelonia mydas), leatherback (Dermochelys coriacea), hawksbill (Eretmochelys imbricata), and Kemp's ridley (Lepidochelys kempii) sea turtles. The conservation plan includes managing the shallow water large and small mesh gill net fishery operating from September through mid-December in areas adjacent to the Outer Banks and mainland in Pamlico Sound. Permit 1398 includes measures to limit the commercial fall gill net fishery for flounder such that the incidental impacts on ESA-listed sea turtles will be minimized. NCDMF would use a variety of adaptive fishery management measures and restrictions through their state proclamation authority to reduce sea turtle mortality. Specific measures to be implemented each year include: (1) require tending for gillnets less than 5-inch (12.7-cm) stretched mesh from September 1 through October 31; (2) prohibit gillnets >5-inch (> 12.7-cm) stretched mesh in areas adjacent to Ocracoke, Hatteras, and Oregon Inlets from September 1 through December 15: (3) restrict the maximum net per fishing operation to 2,000 yards (1,828 m); (4) require NCDMF-issued permits for individual fishing operations employing large mesh gillnets in restricted areas between September 1 and December 15; (5) monitor gear interactions through a mandatory observer program for large and small mesh gillnets as well as through reports from fishermen and NCDMF Marine Patrol.

Comments

NMFS published a notice of availability on July 29, 2002 (67 FR 49009), and requested comments on the NCDMF. Two comment letters were submitted with the following comments.

Comment 1: The 3-year duration for the permit may not allow for adjustments to management measures such as adding the small mesh fishery under the permit in subsequent years. In addition, the annual evaluation of the permit may not be as rigorous given the permit is already in hand.

Response. Annual renewal of this permit is not automatic. Yearly evaluation of this permit by NMFS will include re-analyses of all data and a re-assessment of the take levels prior to 2nd and 3rd year re-authorization. The permit requires weekly, monthly, and yearly reporting. This requirement is unchanged from the previous 1-year permits issued to NCDMF. NCDMF has agreed to modify the conservation plan to cover the small mesh fishery and to achieve 10 percent observer coverage for this component of the shallow water fishery.

Comment 2: Given a 12.5 percent mortality rate, the estimated lethal take should be 61 not 71 as identified in the application. The take levels should also be reviewed on a yearly basis with the goal to reduce both actual and authorized take.

Response. NMFS felt that the take levels authorized in the 2001 permit should not be used in Permit 1398 for 2002-2004. The spatial and temporal scope of the management program was sufficiently different from the 2001 permit. Although NCDMF applied for a September 1 begin date and a December 1 end date for the management measures, they agreed to adjust the end date to December 15 to be consistent with NMFS regulations which close Pamlico Sound to large mesh fishing from September 1 through December 15. The management area also was expanded to include the shallow water areas of Hyde and Pamlico Counties along the mainland. Thus, the take levels were revised based on the observer data collected for the shallow water fishery in 2000 and 2001 and expanded to account for the additional 2-week period in September and the increase in fishing effort from the mainland area. Green turtles are the only species documented in the shallow water fishery. The upper limit of the live and lethal take was estimated to be 160 and 50 respectively. Although Kemp's ridleys and loggerheads have not been documented in the shallow water fishery, interactions are likely. Thus, NMFS determined that the live and lethal take for the Kemp's ridley and loggerhead would be 80 and 25 for each species. NMFS and NCDMF will review these take estimates on an annual basis and modify them as necessary.

Comment 3: The North Carolina Trip Ticket program does not subdivide Pamlico Sound geographically. In order to constructively apply the information collected through the observer program, a simple latitude and longitude subdivision of Pamlico Sound should be considered.

Response. The North Carolina Trip Ticket Program data are used to validate the effort data obtained through the mandatory fishermen reports. These reports require fishermen to identify the restricted area fished. There are 8 restricted areas consisting of only shallow waters adjacent to the Outer Banks and mainland. The majority of the Pamlico Sound waters are closed to fishing with large mesh gillnets and small mesh gillnets appear to not interact with sea turtles. Thus, NMFS and NCDMF believe that the identification of 8 separate restricted areas within an overall limited geographic area is sufficient to determine fishing effort distribution to apply towards the estimates of sea turtle interactions collected through the observer program.

Comment 4: The applicant considered, but rejected, to not apply for a permit and to close the area to gillnet fisheries. Georgia and Florida have banned gill nets in their state waters and this should be considered the preferred alternative for gill nets in Pamlico Sound, NC.

Response. The closure of the deep water large mesh fishery concurrent with the management of the shallow water fishery in 2001 resulted in a 67-percent reduction in strandings and an 88- percent reduction in the estimated take level when compared to 2000. The reduction in sea turtle interactions in the gillnet fishery clearly demonstrates the effectiveness of the management measures. NMFS does not believe that the prohibition of all gill nets is necessary at this time.

Upon a review of the application, relevant documents, public comments, and further discussions with NCDMF, NMFS found that the application met the criteria for issuance of 50 CFR 222.307(c). Permit 1398 was issued on August 30, 2002, and expires on December 15, 2004.

Dated: October 29, 2002.
Phil Williams,
Chief, Endangered Species Division, Office of Protected Resources, National Marine Fisheries Service.

[FR Doc. 02-28009 Filed 11-01-02; 8:45 am]

BILLING CODE 3510-22-S